FEDERAL COMMUNICATIONS COMMISSION

47 CFR Part 73

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective July 31, 2001.

FOR FURTHER INFORMATION CONTACT: Kathleen Scheuerle, Mass Media Bureau, (202) 418-2180.

SUPPLEMENTARY INFORMATION: This is a summary of the Commission's Report and Order, adopted July 11, 2001, and released July 20, 2001. The full text of this Commission decision is available for inspection and copying during normal business hours in the Commission's Reference Center, 445 12th Street, SW., Washington, DC. The complete text of this decision may also be purchased from the Commission's copy contractors, International Transcription Service, Inc., 1231 20th Street, NW, Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by removing Channel 286C3 and adding Channel 286C2 at Albertville.¹

¹ On May 25, 2001, the authorization for Channel 286C, Albertville, Alabama, was amended by a one-step application to specify Channel 286C3 in lieu of Channel 286C. See 66 FR 30826, June 8, 2001.

3. Section 73.202(b), the Table of FM Allotments under Arizona, is amended by removing Channel 255A and adding Channel 255C1 at Leupp.²

² On May 25, 2001, the authorization for Channel 255C, Leupp, Arizona, was amended by a one-step application to specify Channel 255A in lieu of Channel 255C. See 66 FR 30826, June 8, 2001.

4. Section 73.202(b), the Table of FM Allotments under Georgia, is amended by removing Channel 228C2 and adding Channel 228C3 at Hazlehurst and by removing Channel 229C2 and adding Channel 229C1 at Jeffersonville.

5. Section 73.202(b), the Table of FM Allotments under Michigan, is amended by removing Channel 240A and adding Channel 240C3 at Fife Lake.

6. Section 73.202(b), the Table of FM Allotments under Minnesota, is amended by removing Channel 295C and adding Channel 295C0 at Rochester.³

³ See MM Docket No. 98-93 (65 FR 79773, December 20, 2000), 1998 Biennial Regulatory Review—Streamlining of Radio Technical Rules in Parts 73 and 74 of the Commission's Rules, Creation of New Intermediate C0 Station Class and Class C Height Above Average Terrain Minimum. Petition for Reconsideration pending.

7. Section 73.202(b), the Table of FM Allotments under Missouri, is amended by removing Channel 298A and adding Channel 298C3 at Monroe City.

8. Section 73.202(b), the Table of FM Allotments under Nevada, is amended by removing Channel 272C and adding Channel 272A at Wendover.

9. Section 73.202(b), the Table of FM Allotments under New Mexico, is amended by removing Channel 288C and adding Channel 288C1 at Grants.

10. Section 73.202(b), the Table of FM Allotments under Texas, is amended by removing Channel 297A and adding Channel 297C3 at Jasper.

11. Section 73.202(b), the Table of FM Allotments under Virginia, is amended by removing Channel 291B1 and adding Channel 291A at Exmore.

12. Section 73.202(b), the Table of FM Allotments under Washington, is amended by removing Channel 237C2 and adding Channel 237C1 at Ellensburg and by removing Channel 266A and adding Channel 266C2 at Leavenworth.

Federal Communications Commission.
John A. Karousos,
Chief, Allocations Branch, Policy and Rules Division, Mass Media Bureau.

[FR Doc. 01-18956 Filed 7-30-01; 8:45 am]

BILLING CODE 6712-01-P